DEPARTMENT OF TRANSPORTATION

Federal Aviation Administration

14 CFR Part 39

[Docket No. 2000-NM-246-AD; Amendment 39-12427; AD 2001-18-01]

RIN 2120-AA64

Airworthiness Directives; Airbus Model A340-211 Series Airplanes Modified by Supplemental Type Certificate ST09092AC-D

AGENCY: Federal Aviation Administration, DOT.

ACTION: Final rule.

SUMMARY: This amendment adopts a new airworthiness directive (AD), applicable to all Airbus Model A340-211 series airplanes modified by supplemental type certificate ST09092AC-D, that requires modifying the passenger entertainment system (PES) and revising the Flight Crew Operating Manual. This action is necessary to ensure that the flight crew is able to remove electrical power from the entire PES when necessary and is advised of appropriate procedures for such action. Inability to remove power from the PES during a non-normal or emergency situation could result in inability to control smoke or fumes in the airplane flight deck or cabin. This action is intended to address the identified unsafe condition.

DATES: Effective October 15, 2001.

The incorporation by reference of certain publications listed in the regulations is approved by the Director of the Federal Register as of October 15, 2001.

ADDRESSES: The service information referenced in this AD may be obtained from Raytheon Systems Company, Intelligence Information and Aircraft Integration Systems, 7500 Maehre Road, Waco, Texas 76705. This information may be examined at the Federal Aviation Administration (FAA), Transport Airplane Directorate, Rules Docket, 1601 Lind Avenue, SW., Renton, Washington; at the FAA, Fort Worth Airplane Certification Office, 2601 Meacham Blvd., Fort Worth, Texas; or at the Office of the Federal Register, 800 North Capitol Street, NW., suite 700, Washington, DC.

FOR FURTHER INFORMATION CONTACT: Ingrid Knox, Aerospace Engineer, FAA, Fort Worth Airplane Certification Office, ASW-150, 2601 Meacham Blvd., Fort Worth, Texas 76137-4298; telephone (817) 222-5139; fax (817) 222-5960.

SUPPLEMENTARY INFORMATION: A proposal to amend part 39 of the Federal Aviation Regulations (14 CFR part 39) to include an airworthiness directive (AD) that is applicable to all Airbus Model A340-211 series airplanes modified by supplemental type certificate (STC) ST09092AC-D was published in the Federal Register on March 2, 2001 (66 FR 13222). That action proposed to require modifying the passenger entertainment system (PES) and revising the Flight Crew Operating Manual.

Comments

Interested persons have been afforded an opportunity to participate in the making of this amendment. Due consideration has been given to the single comment received.

Omit Reference to the Foreign Airworthiness Authority

The commenter requests that the FAA revise the final rule to omit the references to the Direction Générale de l'Aviation Civile (DGAC), which is the airworthiness authority for France. The commenter points out that the PES system that is the subject of the proposed AD was approved by an American STC; thus, the DGAC is not the primary airworthiness authority for the STC as the proposed rule states.

We concur. The references in the proposed rule to the DGAC were included in error. However, the sections that contained the subject references are not restated in this final rule. Therefore, no change to the final rule is necessary.

Conclusion

After careful review of the available data, including the comment noted above, the FAA has determined that air safety and the public interest require the adoption of the rule as proposed.

Cost Impact

None of the airplanes affected by this action are on the U.S. Register. The single airplane included in the applicability of this AD currently is operated by a non-U.S. operator under foreign registry; therefore, it is not directly affected by this AD action. However, the FAA considers that this rule is necessary to ensure that the unsafe condition is addressed in the event that the subject airplane is imported and placed on the U.S. Register in the future.

Should the affected airplane be imported and placed on the U.S. Register in the future, it will take approximately 28 work hours to accomplish the modification, at an average labor rate of $60 per work hour. Required parts will cost approximately $162,597 per airplane. Based on these figures, the cost impact of the required modification would be $164,277.

Should the affected airplane be imported and placed on the U.S. Register in the future, it will take approximately 1 work hour to accomplish the manual revision, at an average labor rate of $60 per work hour. Based on these figures, the cost impact of the required manual revision would be $60.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-18-01 Airbus: Amendment 39-12427. Docket 2000-NM-246-AD.

Applicability: Model A340-211 series airplanes modified by supplemental type certificate (STC) ST09092AC-D, certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To ensure that the flight crew is able to remove electrical power from the entire passenger entertainment system (PES) when necessary and is advised of appropriate procedures for such action, accomplish the following:

Modification and Flight Crew Operating Manual Revision

(a) Within 18 months after the effective date of this AD, do paragraphs (a)(1) and (a)(2) of this AD.

(1) Modify the PES by replacing the three-unit busbar with a two-unit busbar and installing associated wiring, in accordance with Raytheon Service Bulletin A340VIP-24-1, dated August 28, 2000.

(2) Revise the Electrical Controls and Indicators section of the Airbus A340 Flight Crew Operating Manual to advise the flight crew that power to the PES can be removed by using the “COMMERCIAL” switch in the flight compartment, by inserting “Electrical Controls and Indicators,” 1.24.20, page 4, Revision 07, dated October 1995, of the Airbus A340 Flight Crew Operating Manual.

Spares

(b) As of the effective date of this AD, no person shall install a PES system in accordance with STC ST09092AC-D on any airplane, unless it is modified and the Flight Crew Operating Manual is revised in accordance with this AD.

Alternative Methods of Compliance

(c) An alternative method of compliance or adjustment of the compliance time that provides an acceptable level of safety may be used if approved by the Manager, Fort Worth Airplane Certification Office (ACO), FAA. Operators shall submit their requests through an appropriate FAA Principal Maintenance Inspector, who may add comments and then send it to the Manager, Fort Worth ACO.

Note 2: Information concerning the existence of approved alternative methods of compliance with this AD, if any, may be obtained from the Fort Worth ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Raytheon Service Bulletin A340VIP-24-1, dated August 28, 2000; and Airbus A340 Flight Crew Operating Manual “Electrical Controls and Indicators,” 1.24.20, page 4, Revision 07, dated October 1995; as applicable. The Airbus A340 Flight Crew Operating Manual contains the following list of effective pages:

Page number | Revision level shown on page | Date shown on page
List of Effective Pages 01-52 | 07 | October 1995.

(The revision date of this document is only contained in the “List of Normal Revisions”; no other page of the document contains this information.) This incorporation by reference was approved by the Director of the Federal Register in accordance with 5 U.S.C. 552(a) and 1 CFR part 51. Copies may be obtained from Raytheon Systems Company, Intelligence Information and Aircraft Integration Systems, 7500 Maehre Road, Waco, Texas 76705. Copies may be inspected at the FAA, Transport Airplane Directorate, 1601 Lind Avenue, SW., Renton, Washington; at the FAA, Fort Worth Airplane Certification Office, 2601 Meacham Blvd., Fort Worth, Texas; or at the Office of the Federal Register, 800 North Capitol Street, NW., suite 700, Washington, DC.

Effective Date

(f) This amendment becomes effective on October 15, 2001.

Issued in Renton, Washington, on August 27, 2001.
Kalene C. Yanamura,
Acting Manager, Transport Airplane Directorate, Aircraft Certification Service.

[FR Doc. 01-22084 Filed 9-7-01; 8:45 am]

BILLING CODE 4910-13-P